DEPARTMENT OF TRANSPORTATION

Surface Transportation Board

[STB Finance Docket No. 34295]

Airlake Terminal Railway Company—Acquisition and Operation Exemption—Rail Line of Empire Builder Investments Incorporated and Progressive Rail, Incorporated

Airlake Terminal Railway Company (ATRC), a noncarrier, has filed a verified notice of exemption under 49 CFR 1150.31 to acquire by lease and to operate approximately 2.35 miles of railroad right-of-way and trackage, referred to as the Lakeville trackage, at transloading and storage facilities owned by Empire Builder Investments Incorporated at Airlake Industrial Park, Lakeville, MN. Progressive Rail, Incorporated (Progressive), a rail carrier, owns the Lakeville trackage and currently operates it as switching track, interchanging traffic at a connection with the Canadian Pacific Rail System. ATRC states that the Lakeville trackage would constitute its entire line of railroad, and that ATRC will operate it as a rail common carrier.

ATRC certifies that its projected revenues will not exceed those that would qualify it as a Class III rail carrier.

The transaction was scheduled to be consummated on or shortly after December 16, 2002, (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34295, must be filed with the Surface Transportation Board, 1925 K Street NW., Washington, DC 20423-0001. In addition, one copy of each pleading must be served on Thomas F. McFarland, 208 South LaSalle Street, Suite 1890, Chicago, IL 60604-1194.

Board decisions and notices are available on our Web site at http://www.stb.dot.gov.

Decided: December 17, 2002.
By the Board, David M. Konschnik, Director, Office of Proceedings.
Vernon A. Williams,
Secretary.

[FR Doc. 02-32255 Filed 12-26-02; 8:45 am]

BILLING CODE 4915-00-P